DEPARTMENT OF THE INTERIOR

Bureau of Land Management

[MT-010-1220-DA]

Montana Off-Road Vehicle Designation

AGENCY: Bureau of Land Management, Department of the Interior.

ACTION: Notice to limit off-road vehicle use on public lands.

SUMMARY: Notice is hereby given that motorized vehicle use is limited to designated roads on public lands within the following block management areas. This will be in effect during the hunting season as established by the Montana Department of Fish, Wildlife, and Parks.

Designation and Location

All motorized vehicles will be limited to designated open roads on public lands during hunting season.

Derks Ranch

T. 4 N. R. 32 E.,

Sec 12, E2

T.4 N. R.33 E.,

Sec 7. All public land north of the Yellowstone River.

All established roads are open.

Downs

T. 10 N., R. 25 E.,

Sec 22 NESE, NE, NENW;

Sec 25 E2;

Sec 26 NESE, N2.

Gage Dome

T. 9 N., R. 25 E.,

Sec 4, W2;

Sec 10, ALL; and

Sec 12, S2.

T. 10 N., R. 25 E.,

Sec 34, S2.

T. 9 N., R. 26 E.,

Sec 1 ALL;

Sec 2 SENE, N2NE, NENW;

Sec 3 ALL;

Sec 8, SE4;

Sec 11 ALL;

Sec 12, S2SE, N2, S2SW;

Sec 13, 14, 15, 17, ALL;

Sec 18, NW4;

Sec 20, SE4;

Sec 21 ALL;

Sec 22 SW4;

Sec 28 SE4NE4, E2SW; and

Sec 30 E2.

T. 10 N. R. 26 E.,

Sec 4 NW;

Sec 6 NENE; and

Sec 32 SE4, NE4, N2NW, SENW, SW4 T.11 N. R.26 E.,

Sec 14 ALL;

Sec 15 E2;

Sec 17 ALL;

Sec 18 S2;

Sec 19 ALL

Sec 20 ALL;

Sec 22 S2;

Sec 24 SWNW;

Sec 26 SE4;

Sec 27,28,29 ALL;

Sec 30 NW4, S2S2;

Sec 31,32,33 ALL;

Sec 34 S2

T. 9 N., R. 27 E.,

Sec 6 NE4, E2NW, E2SW;

Sec 7 NW4

T. 10 N., R. 27 E.,

Sec 4 ALL;

Sec 6 E2NE, W2NW.

Roads designated open are as follows : County roads—Alec Roy, Gage Dome, Griffith, Colony, and Big Wall.

Seven other roads designated open are: Colony road in section17 heading southward and terminating at a fence line. A second road coming off Colony road in Sec 14 proceeding southward approximately one mile to a road closed sign. The Crook Creek Spur road originating at the Alec Roy road in Sec 31 and proceeding eastward approximately 2.5 miles ending at a fence line.

The North Spur road originating at the Crooked Creek Spur road in Sec 32 and proceeding northward approximately 1.5 miles to a road closed sign. The Gage Dome road in Sec 21 proceeding southward approximately one mile to a road closed sign. The Gage Dome road in Sec 15 running approximately .5 mile northward to a road closed sign. The last road originating at the Gage Dome road in Sec 13 and running approximately one mile northward to a road closed sign.

Graves Ranch

T. 10 N., R. 25 E.,

Sec 5—Public land west of Highway 87;

Sec 6, S2; and

Sec 7 ALL;

T. 10 N., R. 24 E.,

Sec 2 W2; and

Sec 12 E2NE, SWNE;

T. 11 N., R. 24 E.,

Sec 4 E2SE, SWNW, SW;

Sec 5 SESE, E2NE, SWNE, S2NW, NWNW, SWSW;

Sec 6 ALL;

Sec 7 NWSE, NENE, E2NENW, N2SW;

Sec 8 SE, NW, E2SW;

Sec 20, N2;

Sec 25 W2SE, NENE, W2NE, E2NW, SWNW, SW4;

Sec 35 E2SE, NWSE, SENE, W2NE, E2NW, NWNW, SW4

T. 11 N., R. 25 E.,

Sec 32 Public land west of Hwy 87.

Roads designated open are as follows: County roads—The Snowy Mountain and Graves roads.

Other roads designated open that are not county roads are as follows: That portion of the road through public land starting in T.11 N., R.24 E. Sec 5 and proceeding westward approximately 2 miles. The cut-off road starting in T.11 N., R.24 E. Sec 7 proceeding northward approximately 1 mile. That portion of the road through public land starting in T.11 N., R.24 E., Sec 8 proceeding westward two miles. That portion of the Graves cut-off road that runs across public land. That portion of the road across public land starting at Hwy 87 going southward to the Graves cut-off road.

Grewell Ranch

T. 3 S., R. 24 E.,

Sec 21 NWSE;

Sec 27 NWNW;

Sec 28 N2SE, E2NE, SWNE, E2SW; and

Sec 32 SWSE, N2SE, SWNE.

Grove Creek:

T. 8 S., R. 20 E.,

Sec 25 & 26 S4;

Sec 35 All public land

T. 8 S., R.21 E.,

Sec 30 S4;

Sec 32 S2

T. 9 S., R.20 E.,

Secs 1,12,13,14,24 and 26 All public land

T. 9 S., R 21 E.,

Secs 1, 2, 3, 4, 5, 6, 7, 8, 9, 10, 11, 12, 15, 17, 18, 20, 21, 22, 23, 24, 25, 27, 28,29,30,31,32, and 33 All public land

T. 9 S., R. 22 E.,

Secs 6, 7, 8 and 18 All public land within the Management Area.

Roads designated open are as follows: County roads—Grove Creek to the Grove Creek ranch, all of Meteetsee Trail, and all of Robinson Draw.

Other roads designated open are: That portion of Ruby Creek road beginning in T. 9S., R. 21E., Sec 20 proceeding northeasterly to the west boundary line of Sec 13; that portion of Mill Draw road beginning in T. 9S., R. 21E., Sec 13 to the west boundary line of T. 9S., R. 21E., Sec 22; that portion of the Gold Creek Spring road on the north boundary line of Sec 6 to the spring in Sec 6; South Grove Creek road in T. 8S., R. 20E., Sec 35; and Oil Pad road beginning with the junction of Grove Creek Ranch road proceeding northeasterly approximately 1¼ miles to an old oil pad.

Janich Ranch:

T. 5 N., R. 27 E.,

Sec 6 E2;

Sec 7 ALL;

Sec 8 NWSE, NENE, W2NE, NW, SW

Sec 19 & 20 ALL;

Sec 30 SE, S2NE;

Sec 31 ALL;

Sec 32 W2

Roads designated open are as follows: That portion of the East Ford road through public land starting in T.4N., R.27E., Sec 5 proceeding northward 6.5 miles to the junction of the Old Divide road.

Keebler

T. 4 N., R. 24 E.,

Sec 1 E2NE

T. 4 N., R. 25 E.,

Sec 6 W2SWNW, W2SW;

Sec 7 W2SE, SWNE, E2NW, SWNW, SW, Lots 1, 2, 3, and 4;

Sec 18 SESE

Lone Indian Ranch

T. 1 N., R. 16 E.,

Sec 2 S2SE, N2NE, N2NW, S2SW;

Sec 10 SENE, N2NE, N2NW;

Sec 12 NW, N2SW

T. 2 N., R. 16 E.,

Sec 26 SE, S2NE, S2NW, SW;

Sec 34 NE, NW

Roads designated open are as follows: That portion of Sam's Creek road that crosses public land.

Pole Creek

T. 9 N., R. 23 E.,

Sec 1, SEN2;

Sec 2 NWSE, NW4, NESW;

Sec 4 S2;

Sec 8 N2NE, N2NW;

Sec 9, S2;

Sec 12 SWSE, E2SE, W2NW, W2SW, SESW;

Sec 24 NW4, SWSW; and

Sec 25 ALL

T. 9 N., R. 24 E.,

Sec 28 N2NW

T. 10 N., R. 23 E.,

Sec 13, 15, 23, 25, 26, 27, and 35 ALL;

Sec 14 NE4, NW4, SW4;

Sec 22 SE4;

All public land in Sec 24; Sec 30 N2, SW4; and

Sec 34 E2

T. 10 N., R. 24 E.,

Sec 17 NE4, E2NW;

Sec 18 W2;

Sec 19 and 29 ALL,

Sec 20 SE4, W2NW, SENW, SW4;

Sec 21 E2;

Sec 28 E2, SESW

Roads designated open are as follows: County roads—Lake Mason, Pole Creek, Golf Course, and Snowy Mountain.

Other roads designated open are as follows: The road existing on the south boundary of T.10 N., R.24 E., Sec 30 that runs for one mile. That portion of a road on BLM that starts at the junction of the Grazing District and Lake Mason roads and runs westward three miles, then northward for approximately three miles. The road in T.10 S., R.24 E., Sec 19 coming off Lake Mason road running northwest for over a mile. That portion of the road that exists on BLM and runs on the north boundary of T.9 N., R.24 E., Sec 24.

Tilstra Ranch

T. 7 S., R.24 E.,

All public lands in the below listed sections within the Cooperative Management Area (CMA): Secs 17, 18, 19, 20, 21, 29, 30, 31 and 32

Roads designated open are as follows: County road—the Pryor Mountain road beginning at the northwest edge of the CMA proceeding southward approximately .5 mile then eastward approximately two miles to the east edge of the CMA.

Other roads designated open that are not county roads are as follows: That part of the Depression Reservoir road that crosses public land in sections 29, 30, 31, and 32.

Vescovi

T. 8 N., R. 23 E.,

Sec 14 SENE

T. 7 N., R. 24 E.,

Sec 9 S2;

Sec 10 SE, E2;

Sec 15 ALL;

Sec 22 N2NW, SWNW, N2SW

All established roads are open.

Wolf Creek

T. 8 S., R. 22 E.,

Sec 7 S2SE;

Sec 8 S2SW;

Sec 15 S2SW;

Sec 17 ALL except NENE;

Sec 18 N2NE;

Sec 19 SE, SENE;

Sec 20 ALL;

Sec 21 ALL;

Sec 22 NW;

Sec 28 N2NW;

Sec 29 N2NE, N2NW, SWBW;

Sec 30 N2

T. 8S., R. 21 E.,

Sec 9 W2SE, S2NW;

Sec 10 All public lands except NWNE

Sec 12 SWNE;

Secs 14, 22, 24 and 26 ALL

Roads designated open are as follows: County roads—Wolf Creek road and Wolf Creek Spur road starting at the junction of Wolf Creek road (in Sec 18) proceeding eastward to the Bear Creek highway. There are no other open roads on public land during hunting season.

DATES: These designations will only be in effect during the hunting season as established by the Montana Department of Fish, Wildlife, and Parks. This designation will be in effect during the 2000 hunting season and will remain in effect until rescinded by the authorized officer.

FOR FURTHER INFORMATION CONTACT: Sandra S. Brooks, Billings Field Office, 5001 Southgate, Billings, Montana 59107-6800 or Montana Department of Fish, Wildlife, and Parks, 1125 Lake Elmo Road, Billings, Montana 59105.

Dated: August 22, 2000.
Sandra S. Brooks,
Field Manager.

[FR Doc. 00-21866 Filed 8-25-00; 8:45 am]

BILLING CODE 4310-84-P